DEPARTMENT OF DEFENSE

Office of the Secretary

[Docket ID DoD-2012-OS-0137]

Proposed Collection; Comment Request

AGENCY: United States Transportation Command, DoD.

ACTION: Notice.

SUMMARY: In compliance with Section 3506(c)(2)(A) of the Paperwork Reduction Act of 1995, the United States Transportation Command announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 29, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the United States Transportation Command, ATTN: Diana Roach, 508 Scott Drive, Scott Air Force Base, IL 62225 or call (608) 220-1724.

SUPPLEMENTARY INFORMATION: Title; Associated Form; and OMB Number: Industry Executive Office Survey of United States Transportation Command; OMB Control Number: 0704-TBD.

Needs and Uses: The information collection requirement is necessary to assist USTRANSCOM pursue process improvement and set priorities to enable us to gain efficiencies and improve effectiveness.

Affected Public: Chief Executive Officers of Companies.

Annual Burden Hours: 27 hours.

Number of Respondents: 160.

Responses per Respondent: 1.

Average Burden per Response: 10 minutes.

Frequency: On occasion.

The annual survey measures the perceptions of executives from companies that support the USTRANSCOM missions such as those companies in the Civil Reserve Air Fleet and Voluntary Intermodal Sealift Agreement. The information is used to improve our processes, structures, and culture to be more effective in providing global mobility solutions to support customer requirements in peace and war, developing and maintaining professional relationships, and keeping overhead and operating costs down.

Dated: June 24, 2014.
Aaron Siegel,
Alternate OSD Federal Register Liaison Officer, Department of Defense.

[FR Doc. 2014-15169 Filed 6-27-14; 8:45 am]

BILLING CODE 5001-06-P